DEPARTMENT OF COMMERCE

National Institute of Standards and Technology

National Fire Protection Association (NFPA) Proposes To Revise Codes and Standards

AGENCY: National Institute of Standards and Technology, Commerce.

ACTION: Notice.

SUMMARY: The National Institute of Standards and Technology (NIST) is publishing this notice on behalf of the National Fire Protection Association (NFPA) to announce the NFPA's proposal to revise some of its fire safety codes and standards and requests proposals from the public to amend existing or begin the process of developing new NFPA fire safety codes and standards. The purpose of this request is to increase public participation in the system used by NFPA to develop its codes and standards.

DATES: Interested persons may submit proposals by 5 p.m. EST/EDST on or before the date listed with the code or standard.

ADDRESSES: Amy Beasley Cronin, Secretary, Standards Council, NFPA, 1 Batterymarch Park, Quincy, Massachusetts 02169-7471.

FOR FURTHER INFORMATION CONTACT: Amy Beasley Cronin, Secretary, Standards Council, at above address, (617) 770-3000. David F. Alderman, NIST at (301) 975-4019.

SUPPLEMENTARY INFORMATION: The National Fire Protection Association (NFPA) proposes to revise some of its safety codes and standards and requests proposals from the public to amend existing or begin the process of developing new NFPA safety codes and standards. The purpose of this request is to increase public participation in the system used by NFPA to develop its codes and standards. The publication of this notice of request for proposals by the National Institute of Standards and Technology (NIST) on behalf of NFPA is being undertaken as a public service; NIST does not necessarily endorse, approve, or recommend any of the standards referenced in the notice.

The NFPA process provides ample opportunity for public participation in the development of its codes and standards. All NFPA codes and standards are revised and updated every three to five years in Revision Cycles that begin twice each year and take approximately two years to complete. Each Revision Cycle proceeds according to a published schedule that includes final dates for all major events in the process. The code revision Process contains five basic steps that are followed for developing new documents as well as revising existing documents: Call for Proposals; Publishing the Report on Proposals (ROP); Call for Comments on the Committee's disposition of the Proposals and publication of these Comments in the Report on Comments (ROC); the Association Technical Meeting at the NFPA Conference & Expo; and finally, the Standards Council Consideration and Issuance of documents.

Note: Anyone wishing to make Amending Motions on the Technical Committee Reports (ROP and ROC) must signal his or her intention by submitting a Notice of Intent to Make a Motion by the Deadline stated in the ROC. Certified motions will then be posted on the NFPA Web site. Documents that receive notice of proper Amending Motions (Certified Amending Motions) will be presented for action at the annual June Association Technical Meeting. Documents that receive no motions will be forwarded directly to the Standards Council for action on issuance.

For more information on these rules and for up-to-date information on schedules and deadlines for processing NFPA Documents, check the NFPA Web site at http://www.nfpa.org, or contact NFPA Codes and Standards Administration.

Background

The National Fire Protection Association (NFPA) develops building, fire, and electrical safety codes and standards. Federal agencies frequently use these codes and standards as the basis for developing Federal regulations concerning safety. Often, the Office of the Federal Register approves the incorporation by reference of these standards under 5 U.S.C. 552(a) and 1 CFR part 51.

When a Technical Committee begins the development of a new or revised NFPA code or standard, it enters one of two Revision Cycles available each year. The Revision Cycle begins with the Call for Proposals, that is, a public notice asking for any interested persons to submit specific written proposals for developing or revising a code or standard. The Call for Proposals is published in a variety of publications. Interested parties have approximately twenty weeks to respond to the Call for Proposals.

Following the Call for Proposals period, the Technical Committee holds a meeting to consider and accept, reject or revise, in whole or in part, all the submitted Proposals. The committee may also develop its own Proposals. A document known as the Report on Proposals, or ROP, is prepared containing all the Public Proposals, the Technical Committees' action on each Proposal, as well as all Committee-generated Proposals. The ROP is then submitted for the approval of the Technical Committee by a formal written ballot. If the ROP does not receive approval by a two-thirds vote calculated in accordance with NFPA rules, the Report is returned to the committee for further consideration and is not published. If the necessary approval is received, the ROP is published in a compilation of Reports on Proposals issued by NFPA twice yearly for public review and comment, and the process continues to the next step.

The Report on Proposals is sent automatically free of charge to all who submitted Proposals and each Committee member, as well as anyone else who requests a copy. All ROPs are also available for free downloading at http://www.nfpa.org.

Once the ROP becomes available, there is a 60-day comment period during which anyone may submit a Public Comment on the proposed changes in the ROP. The Committee then reconvenes at the end of the comment period and acts on all Comments.

As before, a two-thirds approval vote by written ballot of the eligible members of the Committee is required for approval of actions on the Comments. All of this information is compiled into a second report, called the Report on Comments (ROC), which, like the ROP, is published, and is made available for public review for a seven-week period.

The process of public input and review does not end with the publication of the ROP and ROC. Following the completion of the Proposal and Comment periods, there is a further opportunity for debate and discussion through the Association Technical Meeting that takes place at the NFPA Conference & Expo.

The Association Technical Meeting provides an opportunity for the final Technical Committee Report (i.e., the ROP and ROC) on each proposed new or revised code or standard to be presented to the NFPA membership for the debate and consideration of motions to amend the Report. Before making an allowable motion at an Association Technical Meeting, the intended maker of the motion must file, in advance of the session, and within the published deadline, a Notice of Intent to Make a Motion. A Motions Committee appointed by the Standards Council then reviews all notices and certifies all amending motions that are proper. Only these Certified Amending Motions, together with certain allowable Follow-Up Motions (that is, motions that have become necessary as a result of previous successful amending motions) will be allowed at the Association Technical Meeting.

For more information on dates/locations of NFPA Technical Committee meetings and NFPA Annual Association Technical Meeting, check the NFPA Web site at: http://www.nfpa.org/itemDetail.asp?categoryID=822&itemID=22818.

The specific rules for the types of motions that can be made or who can make them are set forth in NFPA's Regulations Governing Committee Projects which should always be consulted by those wishing to bring an issue before the membership at an Association Technical Meeting.

Request for Proposals

Interested persons may submit proposals, supported by written data, views, or arguments, to Amy Beasley Cronin, Secretary, Standards Council, NFPA, 1 Batterymarch Park, Quincy, Massachusetts 02169-7471. Proposals should be submitted on forms available from the NFPA Codes and Standards Administration Office, or from NFPA's Web site at http://www.nfpa.org.

Each person must include his or her name and address, identify the code or standard, and give reasons for the proposal. Proposals received by 5 p.m. EDT/EDST on or before the closing date indicated with each code or standard would be acted on by the respective Committee, and then considered by the NFPA Membership at the Association Technical Meeting.

Document—Edition | Document title | Proposal closing date
NFPA 1—2012 | Fire Code | 6/22/2012
NFPA 2—2011 | Hydrogen Technologies Code | 1/4/2012
NFPA 3—2012 | Recommended Practice on Commissioning and Integrated Testing of Fire Protection and Life Safety Systems | 6/22/2012
NFPA 18—2011 | Standard on Wetting Agents | 6/22/2012
NFPA 30—2012 | Flammable and Combustible Liquids Code | 6/22/2012
NFPA 30A—2012 | Code for Motor Fuel Dispensing Facilities and Repair Garages | 6/22/2012
NFPA 30B—2011 | Code for the Manufacture and Storage of Aerosol Products | 6/22/2012
NFPA 31—2011 | Standard for the Installation of Oil-Burning Equipment | 5/24/2013
NFPA 37—2010 | Standard for the Installation and Use of Stationary Combustion Engines and Gas Turbines | 1/4/2012
NFPA 40—2011 | Standard for the Storage and Handling of Cellulose Nitrate Film | 6/22/2012
NFPA 51B—2009 | Standard for Fire Prevention During Welding, Cutting, and Other Hot Work | 11/25/2011
NFPA 54—2012 | National Fuel Gas Code | 6/22/2012
NFPA 56PS—2012 | Standard for Fire and Explosion Prevention During Cleaning and Purging of Flammable Gas Piping Systems | 11/25/2011
NFPA 58—2011 | Liquefied Petroleum Gas Code | 11/25/2011
NFPA 59—2012 | Utility LP-Gas Plant Code | 6/22/2012
NFPA 69—2008 | Standard on Explosion Prevention Systems | 1/4/2012
NFPA 70—2011 | National Electrical Code® | 11/4/2011
NFPA 70E—2012 | Standard for Electrical Safety in the Workplace® | 6/22/2012
NFPA 79—2012 | Electrical Standard for Industrial Machinery | 6/22/2012
NFPA 82—2009 | Standard on Incinerators and Waste and Linen Handling Systems and Equipment | 1/4/2012
NFPA 86—2011 | Standard for Ovens and Furnaces | 6/22/2012
NFPA 87—2011 | Recommended Practice for Fluid Heaters | 6/22/2012
NFPA 88A—2011 | Standard for Parking Structures | 6/22/2012
NFPA 90A—2012 | Standard for the Installation of Air-Conditioning and Ventilating Systems | 6/22/2012
NFPA 90B—2012 | Standard for the Installation of Warm Air Heating and Air-Conditioning Systems | 6/22/2012
NFPA 92—2012 | Standard for Smoke Management Systems | 6/22/2012
NFPA 96—2011 | Standard for Ventilation Control and Fire Protection of Commercial Cooking Operations | 11/25/2011
NFPA 99—2012 | Health Care Facilities Code | 6/22/2012
NFPA 99B—2010 | Standard for Hypobaric Facilities | 6/22/2012
NFPA 101—2012 | Life Safety Code® | 6/22/2012
NFPA 130—2010 | Standard for Fixed Guideway Transit and Passenger Rail Systems | 11/25/2011
NFPA 220—2012 | Standard on Types of Building Construction | 6/22/2012
NFPA 221—2012 | Standard for High Challenge Fire Walls, Fire Walls, and Fire Barrier Walls | 6/22/2012
NFPA 302—2010 | Fire Protection Standard for Pleasure and Commercial Motor Craft | 6/22/2012
NFPA 306—2009 | Standard for the Control of Gas Hazards on Vessels | 11/25/2011
NFPA 318—2012 | Standard for the Protection of Semiconductor Fabrication Facilities | 6/22/2012
NFPA 403—2009 | Standard for Aircraft Rescue and Fire-Fighting Services at Airports | 11/25/2011
NFPA 412—2009 | Standard for Evaluating Aircraft Rescue and Fire-Fighting Foam Equipment | 11/25/2011
NFPA 484—2012 | Standard for Combustible Metals | 6/22/2012
NFPA 502—2011 | Standard for Road Tunnels, Bridges, and Other Limited Access Highways | 11/25/2011
NFPA 520—2010 | Standard on Subterranean Spaces | 5/24/2013
NFPA 556—2011 | Guide on Methods for Evaluating Fire Hazard to Occupants of Passenger Road Vehicles | 6/22/2012
NFPA 610—2009 | Guide for Emergency and Safety Operations at Motorsports Venues | 11/25/2011
NFPA 703—2012 | Standard for Fire Retardant Treated-Wood and Fire-Retardant Coatings for Building Materials | 6/22/2012
NFPA 720—2012 | Standard for the Installation of Carbon Monoxide (CO) Detection and Warning Equipment | 6/22/2012
NFPA 730—2011 | Guide for Premises Security | 1/4/2012
NFPA 731—2011 | Standard for the Installation of Electronic Premises Security Systems | 1/4/2012
NFPA 750—2010 | Standard on Water Mist Fire Protection Systems | 1/4/2012
NFPA 780—2011 | Standard for the Installation of Lightning Protection Systems | 11/25/2011
NFPA 790—2012 | Standard for Competency of Third-Party Field Evaluation Bodies | 6/22/2012
NFPA 791—2012 | Recommended Practice and Procedures for Unlabeled Electrical Equipment Evaluation | 6/22/2012
NFPA 853—2010 | Standard for the Installation of Stationary Fuel Cell Power Systems | 5/24/2013
NFPA 914—2010 | Code for Fire Protection of Historic Structures | 5/24/2013
NFPA 921—2011 | Guide for Fire and Explosion Investigations | 1/4/2012
NFPA 1005—2007 | Standard for Professional Qualifications for Marine Fire Fighting for Land-Based Fire Fighters | 1/4/2012
NFPA 1021—2009 | Standard for Fire Officer Professional Qualifications | 11/11/2011
NFPA 1026—2009 | Standard for Incident Management Personnel Professional Qualifications | 11/11/2011
NFPA 1031—2009 | Standard for Professional Qualifications for Fire Inspector and Plan Examiner | 11/11/2011
NFPA 1033—2009 | Standard for Professional Qualifications for Fire Investigator | 11/11/2011
NFPA 1123—2010 | Code for Fireworks Display | 11/25/2011
NFPA 1143—2009 | Standard for Wildland Fire Management | 11/25/2011
NFPA 1192—2011 | Standard on Recreational Vehicles | 1/4/2012
NFPA 1194—2011 | Standard for Recreational Vehicle Parks and Campgrounds | 1/4/2012
NFPA 1521—2008 | Standard for Fire Department Safety Officer | 1/4/2012
NFPA 1561—2008 | Standard on Emergency Services Incident Management System | 1/4/2012
NFPA 1670—2009 | Standard on Operations and Training for Technical Search and Rescue Incidents | 1/4/2012
NFPA 1710—2010 | Standard for the Organization and Deployment of Fire Suppression Operations, Emergency Medical Operations, and Special Operations to the Public by Career Fire Departments | 6/22/2012
NFPA 1720—2010 | Standard for the Organization and Deployment of Fire Suppression Operations, Emergency Medical Operations and Special Operations to the Public by Volunteer Fire Departments | 6/22/2012
NFPA 1901—2009 | Standard for Automotive Fire Apparatus | 11/25/2011
NFPA 1963—2009 | Standard for Fire Hose Connections | 1/4/2012
NFPA 1965—2009 | Standard for Fire Hose Appliances | 1/4/2012
NFPA 1975—2009 | Standard on Station/Work Uniforms for Emergency Services | 1/4/2012
NFPA 2113—2012 | Standard on Selection, Care, Use, and Maintenance of Flame-Resistant Garments for Protection of Industrial Personnel Against Flash Fire | 6/22/2012
NFPA 5000—2012 | Building Construction and Safety Code® | 6/22/2012
* Proposed NEW document drafts are available from NFPA's Web site— http://www.nfpa.org, or may be obtained from NFPA's Codes and Standards Administration, 1 Batterymarch Park, Quincy, Massachusetts 02169-7471.

Dated: November 4, 2011.
Willie E. May,
Associate Director for Laboratory Programs.

[FR Doc. 2011-29317 Filed 11-10-11; 8:45 am]

BILLING CODE 3510-13-P